DEPARTMENT OF HEALTH AND HUMAN SERVICES

Administration for Children and Families

Privacy Act of 1974; System of Records

AGENCY: Office of Refugee Resettlement (ORR), Administration for Children and Families (ACF), HHS.

ACTION: Notice of a modified system of records, and rescindment of a system of records notice.

SUMMARY: The Department of Health and Human Services (HHS) is modifying a system of records maintained by the Office of Refugee Resettlement (ORR) within HHS' Administration for Children and Families (ACF), number 09-80-0325, titled “Internet Refugee Arrivals Data System (iRADS),” and is renaming it “Refugee Arrivals Data System (RADS).” In addition, HHS is rescinding system of records number 09-80-0329, titled “ORR Unaccompanied Refugee Minors Records,” as duplicative of modified system of records 09-80-0325. The modifications are explained in the SUPPLEMENTARY INFORMATION section of this notice.

DATES: This notice is applicable February 8, 2022, subject to a 30-day period in which to comment on the new routine uses, described below. Please submit any comments by March 10, 2022.

ADDRESSES: The public should address written comments by mail or email to: Anita Alford, Senior Official for Privacy, Administration for Children and Families, 330 C Street SW, Washington, DC 20201, or anita.alford@acf.hhs.gov.

FOR FURTHER INFORMATION CONTACT: General questions about the modified system of records may be submitted by mail or email to: Iulia Kramer, Administration for Children and Families, ORR, Mary E. Switzer Building, 330 C Street SW, Washington, DC 20201; Email: lulia.kramar@acf.hhs.gov, or 202-401-5686.

SUPPLEMENTARY INFORMATION:

I. Modifications to System of Records 09-80-0325

ORR plans, develops, and directs the implementation of a domestic resettlement assistance program for refugees and other eligible populations described in the Categories of Individuals section of the below System of Records Notice (SORN). ORR provides resources to assist these populations with successful integration into American society. ORR's social services help refugees become self-sufficient as quickly as possible after their arrival in the United States. ORR also provides guidance, resources, and oversight for specific health challenges including medical assistance, initial health screenings, and consultations. ORR also oversees the Unaccompanied Children Program, providing care for unaccompanied refugee minors (URM) without lawful immigration status.

ORR is continuously enhancing data collection and record keeping for the many programs that provide refugee resettlement services to new arrivals. ORR expects RADS, the information technology (IT) platform associated with systems of records 09-80-0325 and 09-80-0329, to be the “one stop” shop for grantees to submit data, upload case management files, and submit performance reports and other information that will streamline service delivery, and help ORR respond in a timely and effective manner to the diverse needs of ORR-served populations. ORR recently modified the RADS IT platform to allow for increased database capacity and increased access by ORR's grantees as ORR programs transition to using RADS as the exclusive platform.

Instead of continuing to maintain two SORNs for the Privacy Act records in the RADS IT platform (and for older records which still exist in paper form), ORR is merging the two SORNs, so that all of the records will be covered by SORN 09-80-0325, and SORN 09-80-0329 will be rescinded. The records about all populations served by ORR (unaccompanied children, other refugees, and other populations) have always been used for the same two purposes (ensuring provision of care and services, and providing information needed for reports, grants, budgeting, and similar purposes); covering the records in the same SORN will make that clear.

This modifications to SORN 09-80-0325 include:

• Making formatting changes required by the Office of Management and Budget (OMB) Circular A-108 and minor wording changes throughout the SORN.

• Changing the name of the system of records from internet Refugee Arrivals Data System (iRADS) to ORR Refugee Arrivals Data System (RADS).

• Revising the “System Location” section to omit a statement that a list of contractor sites where records are maintained is available upon request to the System Manager. (The IT system used to maintain the records is now wholly housed in the ACF Amazon Web Services cloud and is no longer in several contractor locations.)

• Updating the “System Manager” section to change the title of the official serving as the System Manager from Director, Division of Budget Policy and Data Analysis, to RADS Project Manager.

• Revising the “Categories of Individuals” section to add, as the last category, the description of unaccompanied refugee minors from SORN 09-80-0329; to add a note explaining that ORR uses the terms “refugee” and “ORR population” to describe all populations eligible to receive ORR refugee services and benefits; and to remove a note about a non-U.S. persons policy, which is prone to change.

• Revising the “Categories of Records” section to combine and unify the descriptions of records and data elements from the two previously separate SORNs 09-80-0325 and 09-80-0329, which were essentially the same and may apply to any of the categories of individuals.

• Revising the “Records Source Categories” section to include these sources from SORN 09-80-0329, which may apply to any of the categories of individuals: National and local refugee resettlement agencies, child welfare agencies, family members, private individuals, private and public hospitals, doctors, law enforcement agencies and officials, private attorneys, facilities reports, third parties, other federal agencies, state and local governments, agencies, and instrumentalities. Note that “national and local refugee resettlement agencies” is an updated description the resettlement community prefers instead of the description “national and local voluntary refugee resettlement agencies” that was used in SORN 09-80-0329.

• Revising the “Routine Uses” section to omit a statement at the start of the section that disclosures made under routine uses will be evaluated to ensure they are “compatible with the purpose for which the information was collected” (the statement is redundant because it repeats part of the definition of a routine use); and to delete two routine uses, add four new routine uses, and revise two existing routine uses, as follows:

○ The law enforcement routine use, which was numbered as routine use 1 in SORN 09-80-0325 and was not included in SORN 09-80-0329, has been deleted because ORR does not disclose information about these populations to law enforcement entities.

○ The routine use authorizing disclosures in administrative claim, complaint, and appeal proceedings filed by HHS employees, which was numbered as routine use 7 in SORN 09-80-0325, and as routine use 11 in SORN 09-80-0329, has been deleted because ORR does not disclose information about these populations in administrative proceedings filed by HHS employees.

○ Routine use 3, which authorizes disclosures to the Department of Justice, or a court or other adjudicative body in litigation or other proceedings, has been revised to remove redundant wording about “compatibility” (because that repeats part of the definition of a routine use); to use the broader term “proceedings” instead of “litigation”; and to change “his or her” to “the employee's” to be gender neutral.

○ Routine use 5, which authorizes disclosures to contractors, has been expanded to include these additional disclosure recipients described in the corresponding routine use in SORN 09-80-0329: Grantees, consultants, and volunteers performing or working on a contract, service, grant, cooperative agreement, job, or other activity for HHS, and who have a need to have access to the information in the performance of their duties or activities for HHS. The phrase “relating to the purposes of the system of records” has also been added.

○ Routine use 11 is new; it has been added from SORN 09-80-0329 to authorize the disclosure of information to an attorney or representative of an individual in connection with any proceeding involving the Department of Homeland Security (DHS) or the Executive Office for Immigration Review. Such disclosures are not limited to information about URM.

○ Routine use 12 is new; it has been added from SORN 09-80-0329 to authorize the disclosure of information to a Protection and Advocacy program under the Protection and Advocacy for Individuals with Mental Illness Act, provided that such a request is appropriately made. Such disclosures are not limited to information about URM.

○ Routine use 13 is new; it has been added from SORN 09-80-0329 to authorize ORR to initiate a disclosure of information to DHS to inquire about DHS' progress in adjudicating or deciding immigration relief. Such disclosures are not limited to information about URM.

○ Routine use 14 is new; it has been added from SORN 09-80-0329 to authorize the disclosure of information to a provider of services to refugee minors, foster care agency, national voluntary refugee resettlement agency, or to a local, county, or state institution involved in resettlement activities. Such disclosures are not limited to information about URM.

• Removing the statement “Disclosure to Consumer Reporting Agencies: None” as unnecessary to include.

• Revising the “Storage” section to indicate which records are in electronic versus paper form (i.e., newer records are electronic, and older records are in paper form).

• Revising the “Retention” section to explain that any of the records could be either destroyed (if they do not have historical value) or retained permanently (acquisitioned to the National Archives and Records Administration), after 15 years. (Previously, all records covered in SORN 09-80-0325 were described as permanently retained, and only URM case files covered in SORN 09-80-0329 were described as temporary records, with a retention period of 5 years.)

• Revising the “Safeguards” section to describe specific administrative, technical, and physical safeguards used to protect the records from unauthorized access, instead of merely stating that “safeguards conform to the HHS Information Security Program.”

• Revising the procedures for making access, amendment, and notification requests to state that “date of birth” should be included and to explain how to verify identity, instead of referring individuals to the verification provisions in the HHS Privacy Act regulations.

Because some of these changes are significant, HHS provided adequate advance notice of the modified system of records to OMB and Congress in accordance with 5 U.S.C. 552a(r).

II. Rescindment of System of Records 09-80-0329

As modified in this notice, system of records 09-80-0325 now includes updated descriptions of the same records previously covered in system of records 09-80-0329. Accordingly, HHS is rescinding system of records 09-80-0329 as duplicative of modified SORN 09-80-0325.

Cindy Huang,
Director, Office of Refugee Resettlement, Administration for Children and Families.

SYSTEM NAME AND NUMBER:

ORR Refugee Arrivals Data System (RADS), 09-80-0325.

SECURITY CLASSIFICATION:

Unclassified.

SYSTEM LOCATION:

Office of Refugee Resettlement (ORR), Administration for Children and Families (ACF), Department of Health and Human Services (HHS), Mary E. Switzer Building, 330 C Street SW, Washington, DC.

SYSTEM MANAGER(S):

RADS Project Manager, Administration for Children and Families, ORR, Mary E. Switzer Building, 330 C Street SW, Washington, DC 20201; Email: iulia.kramar@acf.hhs.gov.

AUTHORITY FOR MAINTENANCE OF THE SYSTEM:

8 U.S.C. 1521-1524; Title V of the Refugee Education Assistance Act of 1980, 8 U.S.C. 1522 note.

PURPOSE(S) OF THE SYSTEM:

Records about individuals in all categories described in the Categories of Individuals section are used by HHS/ACF/ORR for the following purposes:

• To ensure that appropriate assistance, care, and services are provided to all populations served by ORR.

• To generate data needed to allocate funds for Formula Social Services and other grants according to statutory formulas established under 8 U.S.C. 1522(c)(1)(B) and (c)(2)(B); extract samples for the Annual Survey of Refugees, which collects information on the economic adjustment of refugees; and support other budget and grant requirements and data requests from within and outside ORR.

Records about URM are used for the specific purpose of verifying that legal responsibility for the minors is established, under state law, and ensuring that the minors receive the full range of assistance, care, and services that are available to all foster children in the state, and any additional services for which they are eligible.

CATEGORIES OF INDIVIDUALS COVERED BY THE SYSTEM:

Records pertain to the following categories of individuals:

1. Individuals who are paroled as a refugee or asylee under 8 U.S.C. 1182(d)(5) (section 212(d)(5) of the Immigration and Nationality Act (INA)).

2. Individuals admitted as a refugee under 8 U.S.C. 1157 (section 207 of INA).

3. Individuals granted asylum under 8 U.S.C. 1158 (section 208 of INA).

4. Cuban and Haitian entrants, in accordance with requirements in Public Law 97-35, title V, 543(a)(2), 547 [8 U.S.C. 1522 (note)] and 45 CFR part 401.

5. Certain Amerasians from Vietnam who are admitted to the United States as immigrants pursuant to 8 U.S.C. 1101 note (Amerasian Immigration).

6. Iraqi or Afghan Special Immigrant Visa-holders admitted under the Consolidated Appropriations Act of 2008 (Pub. L. 110-161, Division G, Title V, Section 525) or the National Defense Authorization Act for FY 2008 (Pub. L. 110-181, Division A, Title XII, Section 1244).

7. Certified victims of a severe form of human trafficking as defined under 22 U.S.C. 7105(b)(1)(c) (Trafficking Victims Protection Act of 2000).

8. Individuals admitted for permanent residence, provided the individual previously held one of the statuses identified above.

9. URM who are admitted from refugee camps overseas or determined eligible after arrival in the United States and do not have a parent or a relative available and committed to providing for their long-term care. Children determined eligible after arrival include victims of a severe form of trafficking, Cuban and Haitian Entrants, minors granted asylum in the United States, minors with Special Immigrant Juvenile classification, and U status recipients.

(Note: ORR uses the terms “refugee” and “ORR population” to describe all populations eligible to receive ORR refugee services and benefits.)

CATEGORIES OF RECORDS IN THE SYSTEM:

The categories of records consist of:

• Automated database records about the listed categories of individuals covered by the system (refugees, asylees, etc.) that are used to consolidate and generate information needed for reports, grants, budgeting, and similar purposes; and

• Electronic case files that help determine individuals' eligibility for benefits and services; case documents used for determining placements; and reports regarding client progress.

Data elements contained in the records include:

• Alien Number, full name, address, birth date, age, country of origin, birth country, citizenship country, ethnicity, gender, date of eligibility (e.g., arrival date, date of grant of asylum), immigration status, health status and health conditions, and administrative data.

• Data used to determine refugee abilities and skills, such as English language proficiency, occupational skills, progress in education, and social adjustment.

• Client placement information, parent's names, child welfare agency, emancipation information, family reunification information, and other progress notes and updates.

RECORD SOURCE CATEGORIES:

The system of records consolidates the following data about all categories of individuals covered in this system, from these sources:

• Refugee arrival data from the Department of State's Worldwide Refugee Arrivals Processing System.

• Legacy refugee arrival data from the Department of State's Refugee Data Center.

• DHS U.S. Citizenship and Immigration Services (USCIS) asylum corps grant data and I-730 asylee derivative data with some data elements provided by Customs and Border Protection.

• DHS/Customs and Border Protection data regarding Cubans and Haitians entering the United States at land borders or Ports of Entry other than Miami, Florida, as well as Iraqi and Afghan Special Immigrants (starting in FY 2008).

• The Department of Justice (DOJ) Executive Office of Immigration Review asylum grant data.

• The United States Conference of Catholic Bishops and Church World Services in Miami, Florida, data for Cuban and Haitian entrants and Havana parolees (including data on Cuban Medical Parolees) entering the United States through the Port of Miami.

• The I-643 form (OMB No. 1615- 0070), completed by refugees, asylees, Cuban entrants, Haitian entrants, and Amerasians and submitted to USCIS or ORR when filing an application for adjustment of status.

Additional sources include the following: National and local refugee resettlement agencies, child welfare agencies, family members, private individuals, private and public hospitals, doctors, law enforcement agencies and officials, private attorneys, facilities reports, third parties, other federal agencies, state and local governments, agencies, and instrumentalities.

ROUTINE USES OF RECORDS MAINTAINED IN THE SYSTEM, INCLUDING CATEGORIES OF USERS AND PURPOSES OF SUCH USES:

These routine uses specify circumstances, in addition to those provided by statute in the Privacy Act of 1974 at 5 U.S.C. 552a(b), under which ACF may release information from this system of records without the consent of the data subject. Each proposed disclosure of information under these routine uses will be evaluated to ensure that the disclosure is legally permissible.

1. Disclosure for Private Relief Legislation. Information may be disclosed to OMB at any stage in the legislative coordination and clearance process in connection with private relief legislation as set forth in OMB Circular No. A 19.

2. Disclosure to Congressional Office. Information may be disclosed to a congressional office from the record of an individual in response to a written inquiry from the congressional office made at the written request of the individual.

3. Disclosure to Department of Justice or in Litigation or Other Proceedings. Information may be disclosed to DOJ or to a court or other adjudicative body in litigation or other proceedings, when HHS or any of its components, or any employee of HHS acting the employee's official capacity, or any employee of HHS acting in the employee's individual capacity where DOJ or HHS has agreed to represent the employee or the United States Government, is a party to the proceedings or has an interest in the proceedings and, by careful review, HHS determines that the records are both relevant and necessary to the proceedings.

4. Disclosure to the National Archives and Records Administration (NARA). Information may be disclosed to NARA in records management inspections.

5. Disclosure to Contractors, Grantees, and Others. Information may be disclosed to contractors, grantees, consultants, or volunteers performing or working on a contract, service, grant, cooperative agreement, job, or other activity for HHS relating to the purposes of this system of records and who need to have access to the information in the performance of their duties or activities for HHS.

6. Disclosure in Connection with Litigation or Settlement Discussions. Information may be disclosed in connection with litigation or settlement discussions regarding claims by or against HHS, including public filing with a court, to the extent that disclosure of the information is relevant and necessary to the litigation or discussions.

7. Disclosure Incident to Requesting Information. Information may be disclosed (to the extent necessary to identify the individual, inform the source of the purpose of the request, and to identify the type of information requested), to any source from which additional information is requested when necessary to obtain information relevant to an agency decision concerning benefits.

8. Disclosure to Attorney. Information may be disclosed to an attorney or representative (as defined in 8 CFR 1.2) who is acting on behalf of an individual covered by this system of records in connection with any proceeding before the Department of Homeland Security or the Executive Office for Immigration Review.

9. Disclosure to a Protection and Advocacy System. Information may be disclosed to Protection and Advocacy System when the request is appropriately made under the Protection and Advocacy for Individuals with Mental Illness Act, 42 U.S.C. 10801 et seq.

10. Disclosure to Department of Homeland Security for Immigration Relief. ORR may initiate the disclosure of information to DHS to inquire about the DHS' progress in adjudicating or deciding immigration relief.

11. Disclosure to Service Provider. Information may be disclosed to a provider of services to refugee minors or a foster care agency or national refugee resettlement agency, or to a local, county, or state institution (e.g., state refugee coordinator, child welfare agency, court, or social service agency) involved in resettlement activities as authorized by The Refugee Act of 1980 (8 U.S.C. 1521-1524).

12. Disclosure in the Event of a Security Breach Experienced by HHS. Records may be disclosed to appropriate agencies, entities, and persons when (1) HHS suspects or has confirmed that there has been a breach of the system of records; (2) HHS has determined, as a result of the suspected or confirmed breach, there is a risk of harm to individuals, the agency (including its information systems, programs, and operations), the Federal Government, or national security; and (3) the disclosure made to such agencies, entities, and persons is reasonably necessary to assist in connection with HHS' efforts to respond to the suspected or confirmed breach, or to prevent, minimize, or remedy such harm.

13. Disclosure to Assist Another Agency Experiencing a Breach. Records may be disclosed to another federal agency or federal entity, when HHS determines that information from this system of records is reasonably necessary to assist the recipient agency or entity in (1) responding to a suspected or confirmed breach, or (2) preventing, minimizing, or remedying the risk of harm to individuals, the recipient agency or entity (including its information systems, programs, and operations), the Federal Government, or national security, resulting from a suspected or confirmed breach.

14. Disclosure for Cybersecurity Monitoring Purposes. Records may be disclosed to DHS if captured in an intrusion detection system used by HHS and DHS pursuant to a DHS cybersecurity program that monitors internet traffic to and from federal government computer networks to prevent a variety of types of cybersecurity incidents.

Information may also be disclosed from this system of records to parties outside HHS for any of the uses authorized directly in the Privacy Act at 5 U.S.C. 552a(b)(2) and (b)(4) through (b)(11).

POLICIES AND PRACTICES FOR STORAGE OF RECORDS:

Records are maintained in electronic storage media. Some older records are maintained in paper form.

POLICIES AND PRACTICES FOR RETRIEVAL OF RECORDS:

Records are retrieved by “A” (alien) number or by name, date of birth, or date of entry.

POLICIES AND PRACTICES FOR RETENTION AND DISPOSAL OF RECORDS:

Records are preserved in accordance with the ORR records schedule and are then either destroyed (if they do not have historical value) or retained permanently (acquisitioned to NARA), after 15 years. ORR's current records schedule (DAA-0292-2016-0012) was approved in 2016; ORR records schedule DAA-0292-2019-0009 is currently under review from NARA and will supersede the current ORR records schedule when approved.

ADMINISTRATIVE, TECHNICAL, AND PHYSICAL SAFEGUARDS:

Safeguards conform to the HHS Information Security Program, http://www.hhs.gov/ocio/securityprivacy/index.html.

• Authorized Users: Access is strictly limited to authorized personnel whose official duties require such access (i.e., valid business need to know).

• Administrative Safeguards: Controls to ensure proper protection of information and information technology systems include, but are not limited to, the completion of a Security Assessment and Authorization (SA&A) package and a Privacy Impact Assessment and mandatory completion of annual Information Security and Privacy Awareness training. The SA&A package consists of a Security Categorization, e-Authentication Risk Assessment, System Security Plan, evidence of Security Control Testing, Plan of Action and Milestones (if applicable), Contingency Plan, and evidence of Contingency Plan Testing. When the design, development, or operation of a system of records is performed by a contractor to accomplish an agency function, the applicable Privacy Act Federal Acquisition Regulation clauses are inserted in solicitations and contracts.

• Technical Safeguards: Controls that are generally executed by the computer system and are employed to minimize the possibility of unauthorized access, use, or dissemination of the data in the system include, but are not limited to, user identification, password protection, firewalls, virtual private network, encryption, intrusion detection system, common access cards, smart cards, biometrics, and public key infrastructure.

• Physical Safeguards: Controls to secure the data and protect paper and electronic records, buildings, and related infrastructure against threats associated with their physical environment include, but are not limited to, the use of the HHS Employee ID and/or badge number and key cards, security guards, cipher locks, biometrics, and closed-circuit TV. Electronic media are kept on secure servers or computer systems.

RECORD ACCESS PROCEDURES:

An individual seeking access to a record about that individual in this system of records should address written inquiries to the System Manager. The request should include the individual's name, Alien Number, date of birth, telephone number and/or email address, and address of the individual, and should be signed. In addition, the requester must verify the requester's identity by providing either a notarization of the request or a written certification that the requester is the individual who the requester claims to be and understands that the knowing and willful request for or acquisition of a record pertaining to an individual under false pretenses is a criminal offense under the Privacy Act, subject to a fine of up to $5,000. An individual may also request an accounting of disclosures that have been made of any records about that individual.

CONTESTING RECORD PROCEDURES:

Records that contain factually incorrect information may be contested. To contest information in a record about you, write to the System Manager; provide the same information described under “Record Access Procedures,” including identity verification information; and specify the information that is contested, the corrective action sought, and the reason(s) for requesting the correction, along with supporting information. The right to contest records is limited to information that is factually inaccurate, incomplete, irrelevant, or untimely (obsolete).

NOTIFICATION PROCEDURES:

An individual who wishes to know if this system of records contains a record about that individual must write to the relevant System Manager and provide the same information described under “Record Access Procedures,” including identity verification information.

EXEMPTIONS PROMULGATED FOR THE SYSTEM:

None.

HISTORY:

81 FR 46686 (July 18, 2016), 83 FR 6591 (Feb. 14, 2018).

NOTICE OF RESCINDMENT:

For the reason stated in the SUPPLEMENTARY INFORMATION section at II., the following system of records is rescinded:

SYSTEM NAME AND NUMBER:

ORR Unaccompanied Refugee Minors Records, 09-80-0329.

HISTORY:

81 FR 46690 (July 18, 2016), 83 FR 6591 (Feb. 14, 2018).

[FR Doc. 2022-02535 Filed 2-7-22; 8:45 am]

BILLING CODE 4184-45-P